DEPARTMENT OF ENERGY

Federal Energy Regulatory Commission

Combined Notice of Filings #1

Take notice that the Commission received the following electric corporate filings:

Docket Numbers: EC16-181-000.

Applicants: Jericho Rise Wind Farm LLC.

Description: Application for Authorization for Disposition of Jurisdictional Facilities and Request for Expedited Action of Jericho Rise Wind Farm LLC.

Filed Date: 9/13/16.

Accession Number: 20160913-5448.

Comments Due: 5 p.m. ET 10/4/16.

Take notice that the Commission received the following electric rate filings:

Docket Numbers: ER10-2980-007; ER10-2983-007.

Applicants: Castleton Power, LLC, Castleton Energy Services, LLC.

Description: Supplement to August 19, 2016 Notice of Non-Material Change in Status of Castleton Power, LLC, et al.

Filed Date: 9/13/16.

Accession Number: 20160913-5444.

Comments Due: 5 p.m. ET 10/4/16.

Docket Numbers: ER13-102-011.

Applicants: New York Independent System Operator, Inc.

Description: Compliance filing: Compliance with 12/23/15 Order 1000 directives to be effective 4/1/2016.

Filed Date: 9/13/16.

Accession Number: 20160913-5407.

Comments Due: 5 p.m. ET 10/4/16.

Docket Numbers: ER16-1758-001.

Applicants: Midcontinent Independent System Operator, Inc.

Description: Compliance filing: 2016-09-14_Compliance re Filing to revise SSR tariff provisions to be effective 8/22/2016.

Filed Date: 9/14/16.

Accession Number: 20160914-5026.

Comments Due: 5 p.m. ET 10/5/16.

Docket Numbers: ER16-2584-000.

Applicants: RE Astoria LLC.

Description: Section 205(d) Rate Filing: Revised Market-Based Rate Tariff Filing for Astoria to be effective 9/15/2016.

Filed Date: 9/14/16.

Accession Number: 20160914-5036.

Comments Due: 5 p.m. ET 10/5/16.

Docket Numbers: ER16-2585-000.

Applicants: RE Astoria 2 LLC.

Description: Section 205(d) Rate Filing: Revised Market-Based Rate Tariff Filing Astoria 2 to be effective 9/15/2016.

Filed Date: 9/14/16.

Accession Number: 20160914-5037.

Comments Due: 5 p.m. ET 10/5/16.

Docket Numbers: ER16-2586-000.

Applicants: RE Mustang LLC.

Description: Section 205(d) Rate Filing: Revised Market-Based Rate Tariff Filing Mustang to be effective 9/15/2016.

Filed Date: 9/14/16.

Accession Number: 20160914-5042.

Comments Due: 5 p.m. ET 10/5/16.

Docket Numbers: ER16-2587-000.

Applicants: RE Mustang 3 LLC.

Description: Section 205(d) Rate Filing: Revised Market-Based Rate Tariff Filing Mustang 3 to be effective 9/15/2016.

Filed Date: 9/14/16.

Accession Number: 20160914-5043.

Comments Due: 5 p.m. ET 10/5/16.

Docket Numbers: ER16-2588-000.

Applicants: RE Mustang 4 LLC.

Description: Section 205(d) Rate Filing: Revised Market-Based Rate Tariff Filing Mustang 4 to be effective 9/15/2016.

Filed Date: 9/14/16.

Accession Number: 20160914-5044.

Comments Due: 5 p.m. ET 10/5/16.

Docket Numbers: ER16-2589-000.

Applicants: RE Barren Ridge 1 LLC.

Description: Section 205(d) Rate Filing: Revised Market-Based Rate Tariff Filing Barren Ridge to be effective 9/15/2016.

Filed Date: 9/14/16.

Accession Number: 20160914-5045.

Comments Due: 5 p.m. ET 10/5/16.

Docket Numbers: ER16-2590-000.

Applicants: Midcontinent Independent System Operator, Inc.

Description: Section 205(d) Rate Filing: 2016-09-14_Revisions to Coordination Agreement between MISO and IESO to be effective 7/22/2016.

Filed Date: 9/14/16.

Accession Number: 20160914-5063.

Comments Due: 5 p.m. ET 10/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2016.
Nathaniel J. Davis, Sr.,
Deputy Secretary.

[FR Doc. 2016-22645 Filed 9-20-16; 8:45 am]

BILLING CODE 6717-01-P